DEPARTMENT OF COMMERCE

Foreign-Trade Zones Board

[Docket B-53-2015]

Foreign-Trade Zone 119—Minneapolis-St. Paul, Minnesota; Application for Additional Production Authority; The Coleman Company, Inc.; Subzone 119I; Opening of Comment Period on Submission Containing New Evidence

The Foreign-Trade Zones (FTZ) Board is inviting public comment on a submission containing new evidence pertaining to the application of The Coleman Company, Inc. (Coleman) requesting unrestricted production authority within Subzone 119I at the Coleman facility located in Sauk Rapids, Minnesota. Specifically, the application requests unrestricted authority to produce personal flotation devices and flotation cushions using the following inputs in foreign status: Certain nylon and polyester woven fabrics; webbing of man-made fibers; neoprene fabrics; knit polyester fleece fabrics; and, water soluble sensing elements.

On July 31, 2017, Coleman made a submission to the FTZ Board that included new evidence in response to the examiner's preliminary recommendation not to approve the unrestricted authority. Public comment is invited on Coleman's submission through September 22, 2017. Rebuttal comments may be submitted through the subsequent 15-day period, until October 10, 2017. Submissions shall be addressed to the FTZ Board's Executive Secretary at the address below.

A copy of Coleman's submission will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: August 16, 2017.
Andrew McGilvray,
Executive Secretary.

[FR Doc. 2017-17854 Filed 8-22-17; 8:45 am]

BILLING CODE 3510-DS-P